DEPARTMENT OF HOMELAND SECURITY

Coast Guard

33 CFR Part 165

[Docket No. USCG-2015-0362]

Safety Zones; Recurring Events in Captain of the Port Boston Zone

AGENCY: Coast Guard, DHS.

ACTION: Notice of enforcement of regulation.

SUMMARY: The Coast Guard will enforce the safety zones in the Captain of the Port Boston Zone on the specified dates and times listed below. This action is necessary to ensure the protection of the maritime public and event participants from the hazards associated with these annual recurring events. Under the provisions in the CFR, no person or vessel, except for the safety vessels assisting with these events may enter the safety zones unless given permission from the COTP or the designated on-scene representative. The Coast Guard may be assisted by other Federal, State, or local law enforcement agencies in enforcing this regulation.

DATES: The regulation for these safety zones described in 33 CFR 165.118 will be enforced on the dates and times listed in the table below.

FOR FURTHER INFORMATION CONTACT: If you have questions on this document, call or email Mr. Mark Cutter, Coast Guard Sector Boston Waterways Management Division, telephone 617-223-4000, email Mark.E.Cutter@uscg.mil.

SUPPLEMENTARY INFORMATION: The Coast Guard will enforce the safety zones listed in 33 CFR 165.118 on the specified dates and times as indicated in Table 1 below.

Table 1
6.3 Surfside Fireworks | • Event Type: Fireworks Display.
| • Sponsor: Salisbury Beach Partnership and Chamber of Commerce.
| • Date: Every Saturday from June 27, 2015 through September 5, 2015.
| • Time: 9:00 p.m. to 11:00 p.m.
| • Location: All waters of the Atlantic Ocean near Salisbury Beach, MA, within a 350-yard radius of the fireworks barge located at position 42°50.6′ N., 070°48.4′ W. (NAD 83).
6.5 Hull Youth Football Carnival Fireworks | • Event Type: Fireworks Display. • Sponsor: Hull Youth Football.
| • Date: June 20, 2015.
| • Time: 9:30 p.m. to 10:30 p.m.
| • Location: All waters within a 450-foot radius of the fireworks barge located approximately 500 feet of off Nantasket Beach, Hull MA located at position 42°16.6′ N., 070°51.7′ W. (NAD 83).

This document is issued under authority of 33 CFR 165.118 and 5 U.S.C. 552(a). In addition to this notification in the Federal Register, the Coast Guard will provide mariners with advanced notification of enforcement periods via the Local Notice to Mariners and Broadcast Notice to Mariners. If the COTP determines that these regulated areas need not be enforced for the full duration stated in this notice, a Broadcast Notice to Mariners may be used to grant general permission to enter these regulated areas.

Dated: May 18, 2015.
J.C. O'Connor III,
Captain, U.S. Coast Guard, Captain of the Port Boston.

[FR Doc. 2015-13926 Filed 6-5-15; 8:45 am]

BILLING CODE 9110-04-P